DEPARTMENT OF TRANSPORTATION

Federal Aviation Administration

Sixth Meeting: RTCA Special Committee 225, Rechargeable Lithium Batteries and Battery Systems, Small and Medium Size

AGENCY: Federal Aviation Administration (FAA), U.S. Department of Transportation (DOT).

ACTION: Notice of RTCA Special Committee 225, Rechargeable Lithium Batteries and Battery Systems, Small and Medium Size.

SUMMARY: The FAA is issuing this notice to advise the public of the sixth meeting of RTCA Special Committee 225, Rechargeable Lithium Batteries and Battery Systems, Small and Medium Size.

DATES: The meeting will be held February 28-29, 2012, from 9 a.m.-5 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. No. 92-463, 5 U.S.C., App.), notice is hereby given for a meeting of Special Committee 225. The agenda will include the following:

February 28, 2012

• Welcome, Introductions, and Administrative Remarks

• Review of the meeting agenda.

• Review and approval of summary from the 5th plenary meeting.

• Review SC-225 schedule for Plenaries, working group meetings, and document preparation.

• Review action items.

• Review of current events with Li-Ion Batteries (15 min).

• Results of EFB thermal runaway on flightdeck (smoke and toxic gases).

• RTCA Workspace Demo.

• Discuss title of DO-3xx.

• Working Group Meeting—Review draft document.

• Battery Size Table (1.3.1) updates:

• Add row for large size.

• Add Wh equation.

• Review new action items.

• Review agenda for Wednesday.

February 29, 2012

• Review of meeting agenda, other actions.

• Verify dates of next plenary and upcoming meeting working group meetings.

• Establish Agenda for 7th plenary meeting.

• Working Group Meeting—Review draft document

• Working Group report, review progress and actions.

• Review all action items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 7, 2012.
Kathy Hitt,
Program Analyst, Business Operations Branch, Federal Aviation Administration.

[FR Doc. 2012-3364 Filed 2-13-12; 8:45 am]

BILLING CODE 4910-13-P